DEPARTMENT OF HOMELAND SECURITY

Coast Guard

33 CFR Part 117

[Docket No. USCG-2021-0012]

RIN 1625-AA09

Drawbridge Operation Regulation; Savannah River, Savannah, GA

AGENCY: Coast Guard, Department of Homeland Security (DHS).

ACTION: Notice of proposed rulemaking.

SUMMARY: The Coast Guard proposes to modify the operating schedule that governs the Houlihan Bridge (US 17), across the Savannah River, mile 21.6, at Savannah, Georgia and the Seaboard System Railroad Bridge, across the Savannah River, mile 27.4, near Hardeeville, South Carolina. This proposed rule would increase the advance notification time for an opening at the bridges. The proposed rule would also update the name and geographic location of the bridges.

DATES: Comments and relate material must reach the Coast Guard on or before April 12, 2021.

ADDRESSES: You may submit comments identified by docket number USCG-2021-0012 using Federal e-Rulemaking Portal at https://www.regulations.gov.

See the “Public Participation and Request for Comments” portion of the SUPPLEMENTARY INFORMATION section below for instructions on submitting comments.

FOR FURTHER INFORMATION CONTACT: If you have questions on this proposed rule, call or email LT Alexander McConnell, with Coast Guard Marine Safety Unit Savannah; telephone 912-652-4353, x240, email Alexander.W.McConnell@uscg.mil.

SUPPLEMENTARY INFORMATION:

I. Table of Abbreviations

CFR Code of Federal Regulations

DHS Department of Homeland Security

FR Federal Register

OMB Office of Management and Budget

NPRM Notice of proposed rulemaking (advance, supplemental)

§ Section

U.S.C. United States Code

GDOT Georgia Department of Transportation

SR State Route

MHW Mean High Water

II. Background, Purpose and Legal Basis

Georgia Department of Transportation (GDOT) requested the Coast Guard consider changing the advance notification requirement for an opening from three hours to 24 hours at the Houlihan Bridge. The proposed change is due to a decrease in requested openings and would allow bridge maintenance crews to be on-site for openings to address any unforeseen issues. The Seaboard System Railroad Bridge, located approximately six miles upstream, will be changed to a 24 hour advance notice for an opening as it currently operates the same as the Houlihan Bridge. The Seaboard System Railroad Bridge owner, CSX Transportation, is in support of the proposed change. Additionally, the name and geographic location of the bridges will be updated.

The Houlihan Bridge (US 17) Bridge across the Savannah River, mile 21.6, at Savannah, Georgia is a swing bridge with a vertical clearance of seven feet at MHW in the closed to navigation position and a horizontal clearance of 90 feet between the fender system. The operating schedule for the bridge is set forth in 33 CFR 117.371(a).

The Seaboard System Railroad Bridge across the Savannah River, mile 27.4, near Hardeeville, South Carolina is a single-leaf bascule bridge with a vertical clearance of seven feet at MHW in the closed to navigation position and a horizontal clearance of 90 feet between the fender system. The operating schedule for the bridge is set forth in 33 CFR 117.371(b).

III. Discussion of Proposed Rule

The proposed change would allow the bridges to open with a 24 hour advance notice to the bridge owner as designated in the regulation. The proposed change will improve the response time maintenance crews if unforeseen issues occur while operating the Houlihan Bridge and allow the Seaboard System Railroad Bridge to operate the same schedule due to the proximity of the bridges.

This proposed change would still allow vessels that can transit under the bridges, without an opening, to do so at any time while taking into account the reasonable needs of other modes of transportation.

IV. Regulatory Analyses

We developed this proposed rule after considering numerous statutes and Executive Orders related to rulemaking. Below we summarize our analyses based on these statutes and Executive Orders and we discuss First Amendment rights of protestors.

A. Regulatory Planning and Review

Executive Orders 12866 and 13563 direct agencies to assess the costs and benefits of available regulatory alternatives and, if regulation is necessary, to select regulatory approaches that maximize net benefits. Executive Order 13771 directs agencies to control regulatory costs through a budgeting process. This NPRM has not been designated a “significant regulatory action,” under Executive Order 12866. Accordingly, the NPRM has not been reviewed by the Office of Management and Budget (OMB) and pursuant to OMB guidance it is exempt from the requirements of Executive Order 13771.

This regulatory action determination is based on the ability that vessels can still transit the bridge given advanced notice. Vessels that can transit under the bridge without an opening may do so at any time.

B. Impact on Small Entities

The Regulatory Flexibility Act of 1980 (RFA), 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule would not have a significant economic impact on a substantial number of small entities.

While some owners or operators of vessels intending to transit the bridge may be small entities, for the reasons stated in section IV.A above this proposed rule would not have a significant economic impact on any vessel owner or operator.

If you think that your business, organization, or governmental jurisdiction qualifies as a small entity and that this rule would have a significant economic impact on it, please submit a comment (see ADDRESSES) explaining why you think it qualifies and how and to what degree this rule would economically affect it.

Under section 213(a) of the Small Business Regulatory Enforcement Fairness Act of 1996 (Public Law 104-121), we want to assist small entities in understanding this proposed rule. If the rule would affect your small business, organization, or governmental jurisdiction and you have questions concerning its provisions or options for compliance, please contact the person listed in the FOR FURTHER INFORMATION CONTACT section. The Coast Guard will not retaliate against small entities that question or complain about this proposed rule or any policy or action of the Coast Guard.

C. Collection of Information

This proposed rule would call for no new collection of information under the Paperwork Reduction Act of 1995 (44 U.S.C. 3501-3520.).

D. Federalism and Indian Tribal Governments

A rule has implications for federalism under Executive Order 13132 (Federalism), if it has a substantial direct effect on the States, on the relationship between the National Government and the States, or on the distribution of power and responsibilities among the various levels of government. We have analyzed this proposed rule under that order and have determined that it is consistent with the fundamental federalism principles and preemption requirements described in Executive Order 13132.

Also, this proposed rule does not have tribal implications under Executive Order 13175 (Consultation and Coordination with Indian Tribal Governments) because it would not have a substantial direct effect on one or more Indian tribes, on the relationship between the Federal Government and Indian tribes, or on the distribution of power and responsibilities between the Federal Government and Indian tribes. If you believe this proposed rule has implications for federalism or Indian tribes, please contact the person listed in the FOR FURTHER INFORMATION CONTACT section.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule will not result in such an expenditure, we do discuss the effects of this proposed rule elsewhere in this preamble.

F. Environment

We have analyzed this rule under Department of Homeland Security Management Directive 023-01, Rev.1, associated implementing instructions, and Environmental Planning Policy COMDTINST 5090.1 (series), which guide the Coast Guard in complying with the National Environmental Policy Act of 1969 (NEPA) (42 U.S.C. 4321-4370f). The Coast Guard has determined that this action is one of a category of actions that do not individually or cumulatively have a significant effect on the human environment. This proposed rule promulgates the operating regulations or procedures for drawbridges. Normally such actions are categorically excluded from further review, under paragraph L49, of Chapter 3, Table 3-1 of the U.S. Coast Guard Environmental Planning Implementation Procedures.

Neither a Record of Environmental Consideration nor a Memorandum for the Record are required for this rule. We seek any comments or information that may lead to the discovery of a significant environmental impact from this proposed rule.

G. Protest Activities

The Coast Guard respects the First Amendment rights of protesters. Protesters are asked to contact the person listed in the FOR FURTHER INFORMATION CONTACT section to coordinate protest activities so that your message can be received without jeopardizing the safety or security of people, places or vessels.

V. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at https://www.regulations.gov. If your material cannot be submitted using https://www.regulations.gov, contact the person in the FOR FURTHER INFORMATION CONTACT section of this document for alternate instructions.

We accept anonymous comments. All comments received will be posted without change to https://www.regulations.gov and will include any personal information you have provided. For more about privacy and submissions in response to this document, see DHS's eRulemaking System of Records notice (85 FR 14226, March 11, 2020).

Documents mentioned in this NPRM as being available in this docket and all public comments, will be in our online docket at https://www.regulations.gov and can be viewed by following that website's instructions. Additionally, if you go to the online docket and sign up for email alerts, you will be notified when comments are posted or a final rule is published.

List of Subjects in 33 CFR Part 117

Bridges.

For the reasons discussed in the preamble, the Coast Guard proposes to amend 33 CFR part 117 as follows:

PART 117—DRAWBRIDGE OPERATION REGULATIONS

1. The authority citation for part 117 continues to read as follows:

Authority: 33 U.S.C. 499; 33 CFR 1.05-1; and Department of Homeland Security Delegation No. 0170.1.

2. Amend § 117.371 by revising paragraphs (a) and (b) to read as follows:

§ 117.371 Savannah River.

(a) The draw of the James P. Houlihan (SR 25) Bridge, mile 21.6 at Port Wentworth, Georgia, shall open if at least a 24 hour advance notice is given. Openings can be arranged by contacting Georgia Department of Transportation Savannah Area Office at 1-912-651-2144.

(b) The draw of the CSX Transportation Railroad Bridge, mile 27.4 near Hardeeville, South Carolina, shall open if at least a 24 hour advance notice is given. Openings can be arranged by contacting CSX Transportation at 1-800-232-0144.

* * * * *

Dated: February 1, 2021.
Eric C. Jones,
Rear Admiral, U. S. Coast Guard, Commander, Seventh Coast Guard District.

[FR Doc. 2021-03683 Filed 2-24-21; 8:45 am]

BILLING CODE 9110-04-P